DEPARTMENT OF LABOR

Employment and Training Administration

Job Corps: Final Finding of No Significant Impact (FONSI) for the New Job Corps Center Located on Schoolland Woods Road (the Former Ladd Center) in Exeter, RI

AGENCY: Employment and Training Administration, Labor.

ACTION: Final Finding of No Significant Impact (FONSI) for the New Job Corps Center to be located on Schoolland Woods Road (the former Ladd Center) in Exeter, Rhode Island.

SUMMARY: Pursuant to the Council on Environmental Quality Regulations (40 CFR Part 1500-08) implementing procedural provisions of the National Environmental Policy Act (NEPA), the Department of Labor, Employment and Training Administration, Office of Job Corps gives final notice of the proposed construction of a new Job Corps Center on Schoolland Woods Road (the former Ladd Center), Exeter, Rhode Island, and that this construction will not have a significant adverse impact on the environment. In accordance with 29 CFR 11.11(d) and 40 CFR 1501.4(e)(2), a preliminary FONSI for the new Exeter Job Corps Center was published in the October 14, 1999 Federal Register (64 FR 55754-55755). Copies of the environmental assessment (EA) were made available to all interested parties, and two organizations submitted comments on the EA and FONSI. ETA has reviewed all comments submitted, and has issued an addendum to the EA correcting factual errors identified during the public review and comment period. ETA has determined that the issues and concerns raised during the public comment period do not affect the conclusions of the EA or the finding of no significant impact. This notice serves as the Final Finding of No Significant Impact for construction of the new Exeter Job Corps Center to be located on Schoolland Woods Road (the former Ladd Center) in Exeter, Rhode Island.

EFFECTIVE DATE: March 10, 2000.

FOR FURTHER INFORMATION CONTACT: Copies of the EA, the addendum to the EA, or comments submitted by interested parties can be obtained by contacting Michael O'Malley, Employment and Training Administration, Department of Labor, 200 Constitution Avenue, NW, Room N-4659, Washington, DC, 20210, (202) 219-5468 ext 115 (this is not a toll-free number).

SUPPLEMENTARY INFORMATION:

Background

On October 14, 1999, the ETA published an environmental assessment (EA) and a preliminary finding of no significant impact (FONSI) for construction of a new Job Corps Center on approximately 19.65 acres located on Schoolland Woods Road in Exeter, Rhode Island. The proposed project parcel is located within the former Ladd Center, an approximately 270 acre facility which served as an institution for the care and rehabilitation of the developmentally disabled. The project includes renovation of two existing buildings and construction of three new buildings on the proposed property parcel, which will be leased by the Department of Labor from the State of Rhode Island for a term of 50 years. The Exeter Job Corps Center will provide training and support for 200 resident students. The EA prepared by the ETA concluded that the construction of a new Job Corps Center at the proposed property parcel would have no significant negative impacts on the natural, cultural, or social environment in the surrounding community. Due to the adaptability of the existing structures on the site, the lack of alternative construction sites, and the absence of any identified adverse environmental impacts from locating a Job Corps Center at the subject property, the “Continue Construction as Proposed” alternative was selected, and a finding of no significant impact was made. Although the Department of Labor's NEPA compliance procedures do not require a public comment period for an environmental assessment that results in a finding of no significant impact, the ETA voluntarily published the FONSI for the Exeter Job Corps Center as a preliminary finding, and provided a 30-day public comment period.

Discussion of Public Comments and Interagency Review

The ETA received written comments from three public agencies: (1) the Town Council for the Town of Exeter, Rhode Island; (2) the Planning Board for the Town of Exeter, Rhode Island; and (3) the United States Environmental Protection Agency, Region I, Rhode Island Program. All three agencies disagreed with the ETA's finding of no significant impact, and offered comments on the EA.

Comments From the Town of Exeter Town Council

The Town of Exeter Town Council provided twelve specific comments and/or questions regarding the EA prepared by the DOL. The first comment was that the format of the EA appeared to be based on the ASTM standard for Phase I environmental site assessments (ESA), and the Town Council questioned whether the EA was prepared primarily to relieve the ETA of CERCLA liability and to provide a boilerplate for a finding of no significant impact (Section 1.1—Purpose and Scope and Section 4.1—Facility Characteristics). The EA was prepared by a contractor to the ETA under a specific scope of work that included both (1) an ASTM phase I environmental site assessment to identify potential CERCLA liabilities associated with the proposed project parcel; and (2) an evaluation of potential environmental impacts associated with the project, in accordance with the NEPA implementation regulations promulgated by the DOL. Combining these two environmentally related tasks in a single scope of work complies with the Council on Environmental Quality NEPA regulations on paperwork reduction (40 CFR 1500.4). The EA was designed to provide a format for publication of a FONSI if no significant impact was identified, or for development of an environmental impact statement (EIS) if a potentially significant impact was identified. The DOL believes that the scope of work and format for this EA satisfy the intent and specific requirements of the NEPA.

The second comment expressed concern that the Rhode Island Department of Mental Health, Retardation, and Hospitals (DMHRH) had not been consulted regarding the past uses of the property (Section 1.2—Sources of Information and Section 4.3.5.5—Standard Historical Sources). During preparation of the EA, several interviews were conducted with representatives of the Rhode Island Economic Development Corporation (EDC) who had personal knowledge of the site and of the past uses of the property, and written records concerning the past uses of the property were also reviewed. Based on the available information, there are no indications that additional information from the DMHRH would have any affect on the determination of either the potential CERCLA liability of the property or the potential environmental impacts from the proposed Job Corps Center. The finding of no significant impact is therefore reasonable, and the EA has not been edited in response to this comment.

The third comment from the Town Council suggested that, because the specific vocational curriculum at the proposed Job Corps Center has not yet been finalized, environmental concerns from Job Corps training operations (Section 3.1—Proposed Job Corps Center) cannot be thoroughly evaluated at this time. Although the specific vocational curriculum has not yet been finalized, the proposed vocations include carpentry and masonry. Both of these trades are included in vocational programs at Job Corps centers throughout the nation, and neither of these trades is associated with significant air, water, noise, hazardous waste, or solid waste pollution at any of the centers in which they are taught. The finding of no significant impact is therefore reasonable, and the EA has not been edited in response to this comment.

The fourth comment pointed out that the proposed student population listed in the EA (Section 3.2—Facility Characteristics) was 200 residential students and 100 non-resident students, whereas the final project proposal was for 200 residential students only. The removal of non-resident students from the proposed Job Corps Center has no effect on the finding of no significant impact, however, except possibly to reduce even further the anticipated impacts on vehicular traffic, noise, and non-source air pollution. Although this error has no bearing on the finding of no significant impact, the proposed student population was corrected in an addendum to the EA published on January 14, 2000.

The fifth comment stated that the review of the United States Geological Survey (USGS) 7.5 minute topographic map (Section 4.3.5.4) conducted as part of the Phase I ESA was inadequate, and suggested that further evaluation of the Queen's River aquifer should have been included in this section. This section of the ESA was intended only to provide an evaluation of recognized environmental conditions and potential liabilities that could be identified through an evaluation of the USGS 7.5 minute topographic map, and was not intended to include an in-depth discussion of existing groundwater conditions. The EA report has not been edited in response to this comment.

The sixth and seventh comments correctly pointed out that the Town of Exeter is incorrectly identified as the “City of Exeter'in several sections of the EA, and that the EA (Section 5.2.1—Land Use) incorrectly identifies a downtown area of Exeter. Although they have no bearing on the finding of no significant impact, both of these errors have been corrected in an addendum to the EA published on January 14, 2000.

The eighth comment from the Town Council referenced the EA's description of adjoining property land use (Section 5.2.1). The town council stated that, due to the presence of wetlands, farmland, and undeveloped property parcels surrounding the former Ladd Center, impacts to groundwater from the project may have “unforeseeable and irreparable consequences, and * * * justifies the need for further assessment.” The DOL recognizes the concern for protection of groundwater in this area, and all buildings, surface improvements, sewage disposal systems, and storm water control systems will be constructed in accordance with Rhode Island Department of Environmental Management (RIDEM) guidelines and regulations to minimize impacts to groundwater. The nature of surrounding land use will not effect the DOL's ability to protect groundwater resources, and therefore does not affect the finding of no significant impact. The EA correctly describes adjoining property use, and has not been edited in response to this comment.

The ninth comment from the Town Council identified an incorrect spelling of a Town Council representative (Section 5.2.2—Demographics and Socio-Economic). Although the error has no bearing on the finding of no significant impact, the spelling was corrected in an addendum to the EA published on January 14, 2000.

The tenth comment referenced the EA's description of historical land use (Section 5.2.3), which stated that an archaeological assessment of the Ladd Center property was warranted “due to the parcel's favorable environmental characteristics such as well-drained soils * * *, level topography and abundance of nearby freshwater wetlands.” The town council stated that these conditions created the potential for “unforeseeable and irreparable consequences, and * * * justifies the need for further assessment.” As indicated above, the DOL recognizes the concern for protection of groundwater in this area. This section of the EA, however, is intended only to focus on the potential for historic and/or archaeological resources on the proposed project parcel. Since the EA (and a subsequent archaeological assessment of the entire Ladd Center by the Rhode Island Economic Development Corporation) did not identify any historically significant or archaeologically sensitive areas on or immediately adjacent to the proposed Job Corps parcel, the finding of no significant impact is reasonable. The EA has not been edited in response to this comment.

The eleventh comment from the Town Council stated that the EA's description of the Exeter Fire Department (Section 5.2.7.3—Fire/Rescue/Emergency) as a full time department providing 24 hour service was incorrect; the Exeter Fire and Rescue Departments are part-time volunteer agencies. This error was corrected in an addendum to the EA published on January 14, 2000, but the error has no bearing on the finding of no significant impact.

The final comment stated that insufficient information was researched in order to support the EA's statement that “wastewater flows and resultant demand on the regional infrastructure will not increase significantly” (Section 6.1.1—Hydrogeology). The term “regional infrastructure”, as applied to wastewater disposal, generally refers to municipal sewer lines, wastewater pumping stations, and publicly owned treatment facilities. Wastewater disposal for the proposed project will be managed through an individual sewage disposal system (ISDS) in accordance with RIDEM guidelines and regulations, and therefore will have no impact either on groundwater on the regional wastewater infrastructure. The DOL believes that the finding of no significant impact is justified, and the EA has not been edited in response to this comment.

Comments From the Town of Exeter Planning Board

The Exeter Planning Board submitted a letter objecting to the finding of no significant impact, stating that they felt an EIS was required. The Planning Board included twenty-one specific comments on the EA.

Their first comment criticized the database information used by the DOL in preparation of the ESA portion of the report (Section 4.3—Environmental Records Review), suggesting that the site specific information contained in the database should have been verified. The use of environmental databases to identify known environmental concerns is standard practice in the preparation of an ESA. Field verification of the database information is not required or recommended in the ASTM Standard Practice for Environmental Site Assessments. The DOL believes that the information used in preparing the ESA was reliable, and this comment has no bearing on the finding of no significant impact.

The second comment requested that the impacts of leaking underground storage tanks (UST) at the Exeter Mall site should be included in the ESA portion of the report (Section 4.3.2.2—Leaking Underground Storage Tank Sites). This section of the EA report was generated from a RIDEM database of leaking UST sites, which reported no leaking UST sites within a 0.5 mile radius of the proposed Job Corps property parcel. A database search of 0.5 mile radius is specified in the ASTM Standard Practice for Environmental Site Assessments. The proposed project will not have any impact on the site referenced by the Planning Board, and this comment has no bearing on the finding of no significant impact.

The third comment from the planning board suggested that insufficient information was obtained through consultation with interested parties (Section 4.4.2—Interviews with Knowledgeable Parties) for assessment of known environmental conditions. The Board suggested that additional assessment of the 6 USTs on the Ladd Center property should be conducted, and they suggested that the DOL should have consulted with the RIDEM, former property managers, town officials, the Nature Conservatory, and the Audubon Society. The DOL believes that additional assessment of the 6 USTs identified on the Ladd Center is not necessary for satisfactory completion of the EA, since these tanks are not located on or immediately adjacent to the proposed Job Corps property parcel, and the proposed project will not have any impact on surface or subsurface soils in the vicinity of the USTs. With respect to the adequacy of the interviews conducted, the DOL believes that sufficient interviews were conducted to satisfy the informational requirements of both the phase I ESA and the requirements for an EA under the DOL NEPA implementation regulations.

The fourth comment suggested possible environmental impacts due to the presence of mercury in fluorescent light bulbs throughout the buildings to be renovated under this project. The fluorescent light bulbs were identified as a recognized environmental condition in the ESA section of the EA (Section 4.5—Findings and Conclusions). As discussed in Section 6.3.5 of the EA, any fluorescent light fixtures removed during renovation activities will be disposed of in accordance with applicable State and Federal regulations. Although the fluorescent light bulbs represent a potential environmental liability associated with the property, there are no significant impacts associated with the proper removal, handling, and disposal of these fixtures for the proposed Job Corps renovations.

The fifth comment from the Planning Board suggested that a description and diagram of the existing groundwater reservoir and well fields should be included in the EA, and suggested that the USGS report on the Queens River Aquifer should have been reviewed in evaluating the impact of the project (Section 5.1.5—Natural Environment and Resources). The DOL did not include a detailed description of the groundwater aquifer in the EA report, since the EA is intended to be only a brief evaluation and discussion of potential environmental impacts. As indicated previously, the RIDEM has informed the DOL that an individual sewage disposal system (ISDS) for the proposed Job Corps project, with appropriate pretreatment, will meet RIDEM regulations for the protection of ground and surface waters. The estimated groundwater withdrawal for the proposed Job Corps project is also well below the current yield for existing groundwater wells, and will not add significantly to the overall withdrawal from the Queens River Aquifer. The DOL believes that the discussion of natural environment and resources presented in the EA is sufficient, and supports the finding of no significant impact.

The sixth comment from the Planning Board suggested that the EA did not sufficiently address potential impacts to rare species living at the Queens River, and suggested that the DOL should more clearly delineate the wetlands surrounding the Ladd Center (Section 5.1.5—Natural Environment and Resources). Both the U.S. Fish and Wildlife Service and the RIDEM Natural Heritage Program were consulted during preparation of the EA, and no known endangered or threatened plant or animal species were identified on the proposed Job Corps property parcel. The EA indicates that no jurisdictional wetlands are located on or immediately adjacent to the proposed property parcel, although there are protected wetlands to the Southeast, Northwest, and West of the proposed property parcel. As indicated in the EA, all storm water will be managed on-site so as to minimize run-off to wetlands areas and other surface water receptors, in accordance with RIDEM storm water guidelines and regulations.

The Planning Board disagreed with the DOL's conclusion that noise from the proposed Job Corps center will not create a significant impact (Section 5.1.8—Noise), suggesting that construction and operation of the Job Corps center will negatively impact residential communities in the vicinity of the project. As indicated in the EA, construction and operation of the Job Corps center will comply with all applicable noise standards. Due to the remoteness of the center location and its confinement within the boundaries of the 300 acre Ladd Center property, noise impacts from the proposed Job Corps center are anticipated to be minimal. The DOL believes that the discussion of noise levels presented in the EA is reasonable, and supports the finding of no significant impact.

The Planning Board also raised concern over the proposed center's compliance with the Town of Exeter lighting regulations (Section 5.1.9—Lighting). As indicated in the EA, the Job Corps center will comply with all applicable lighting regulations, including those of the Town of Exeter. Due to the remoteness of the center location and its confinement within the Ladd Center boundaries, no significant impacts from the center's lighting system are anticipated.

The ninth comment from the Planning Board supported the conduct of an archaeological assessment for the former Ladd Center, as recommended by the State of Rhode Island Historical Preservation & Heritage Commission and reported in the EA (Section 5.2.3—History and Archaeology). This recommendation was made in reference to the Ladd Center as a whole, and not in reference to the Job Corps property parcel. As reported in the EA, no known or suspected archaeological sites have been identified on the proposed Job Corps property parcel. The findings presented in the EA have been confirmed by an archaeological assessment recently performed by the Rhode Island EDC, which concluded that there is little potential for culturally significant findings on the proposed Job Corps center property parcel. The DOL believes that the discussion of historical and archaeological impacts presented in the EA is reasonable, and supports the finding of no significant impact.

The tenth comment from the Planning Board stated that the EA's statements relating to the impacts of the proposed project on water and sewer resources are inadequate (Section 5.2.6.2—Water and Section 5.2.6.3—Sewer). As discussed in the EA and reiterated above, the estimated water withdrawal for the proposed Job Corps center is well below the current pumping rate for existing on-site wells, and will create a minimal impact on the overall water withdrawal from the Queens River Aquifer. The DOL has consulted with the RIDEM regarding the impacts to groundwater from sewage disposal, and RIDEM informed the DOL that an ISDS can be designed for the proposed project, with appropriate wastewater pre-treatment, to meet all RIDEM regulations and ensure protection of groundwater resources. The DOL believes that the discussions of water use and wastewater treatment presented in the EA are sufficient, and support the finding of no significant impact.

Comment eleven from the Planning Board repeated the concern raised by the Town Council criticizing the finding that wastewater flows will not have significant impact on regional infrastructure (Section 6.1.1—Hydrogeology). This comment has been addressed above, and does not affect the DOL's finding of no significant impact for the proposed Job Corps center.

The twelfth comment stated that the Planning Board does not accept the DOL's statement that the project site has been selected to avoid negative impacts on rare, threatened, or endangered species or wetland habitats (Section 6.1.2—Natural Environment and Resources), and stated that they will independently assess the impact of the project during the Planning Board's site review process. The DOL is aware that many local jurisdictions have established procedures for site plan review, and the DOL will continue to work closely with the Planning Board and other interested parties throughout the design and construction of the proposed project. The Planning Board's site review is separate from the DOL's internal NEPA review, however, and does not impact the finding of no significant impact.

Comment thirteen restated the Planning Board's objection to the finding of no impact from noise at the center (Section 6.1.5—Noise), stipulating that the Job Corps center will inevitably increase traffic flow over the current level, since the Ladd Center is currently vacant. Although vehicular traffic will increase over current levels, the increase will not have any significant effects on air quality, noise levels, or traffic patterns in the vicinity. The traffic associated with construction and operation of the Job Corps center will be well below the traffic levels that previously occurred at the Ladd Center, and the existing road systems and transportation infrastructure is more than adequate to handle the Job Corps traffic load. The DOL believes that the discussion of traffic patterns and noise levels presented in the EA is reasonable, and supports the finding of no significant impact.

The Planning Board challenged the statement in the EA identifying a proposal to establish an educational/residential land use classification for the proposed Job Corps property parcel (Section 6.2.1—Land Use). The Planning Board correctly pointed out that the proposed re-zoning has been withdrawn, and the subject property currently retains a special zoning classification. Although the proposed re-zoning has been withdrawn, there are no restrictions associated with the current special zoning classification that would prevent construction of the proposed Job Corps center. The correct zoning status of the property was included in an addendum to the EA published on January 14, 2000.

The Planning Board also questioned who would pay for fire, police, and rescue services (Section 6.2.2—Demographics and Socio-Economics). As discussed in the EA, the Job Corps center will have on-site security staff and limited medical services. The Job Corps center will rely on the Town of Exeter and the State of Rhode Island for emergency services, as did the Ladd Center during its operation. The demand for emergency services is anticipated to be minimal. A review of fire, police, and rescue service capabilities for the Town of Exeter and the State of Rhode Island indicates that the existing emergency services are sufficient to meet the anticipated needs of the Job Corps Center, and will not result in a significant increased service demand. The issue of compensation for services provided is not relevant to the EA, and has no bearing on the finding of no significant impact.

Comment number sixteen from the Planning Board reiterated their concern over possible impacts from wastewater treatment at the proposed Job Corps center (Section 6.2.6.3—Sewer), stating that the project must take into account the need for nitrogen removal in accordance with the Town of Exeter wastewater regulations. As stated in the EA, the RIDEM has indicated that an ISDS is an appropriate wastewater treatment technology for the proposed Job Corps center. The DOL will continue to consult with the RIDEM, the Town of Exeter, and other interested parties during the design of the ISDS to ensure that the design conforms with all applicable wastewater treatment guidelines and regulations. The ISDS will be maintained and operated by appropriately trained and/or licensed operators, either by a center staff member or through an outside contractor. The DOL believes that the discussion of wastewater impacts in the EA is reasonable, and supports the finding of no significant impact.

The Planning Board also commented that a private contractor will be necessary to transport solid waste from the center to the landfill (Section 6.2.6.4—Solid Waste). The EA indicates that solid waste transport will be handled either by the Town of Exeter or a private solid waste transporter; the proposed Job Corps center will contract with a private transporter to provide solid waste removal.

Comment number eighteen from the Planning Board stated their disagreement with the findings of the EA with respect to storm water drainage patterns at the proposed Job Corps center. (Section 6.2.6.5—Storm water Management). As stated in the EA, the interior renovation of existing buildings will not affect storm water drainage patterns on the site, and new buildings will be designed and constructed in accordance with applicable storm water regulations so as to minimize soil erosion and storm water run-off from the property. The DOL believes that the discussion of storm water management in the EA is reasonable and sufficient, and supports the finding of no significant impact.

Comment number nineteen repeated the Planning Board's belief that traffic will be increased as a result of the proposed Job Corps center. As discussed above, the increase in traffic is well within the designed capacity of the existing road system, and will not result in any significant impacts to air quality, noise levels, or traffic patterns in the vicinity.

The twentieth comment from the Planning Board indicated that the Town of Exeter will not provide government services without compensation (Section 6.2.7—Government Services). As stated above, the issue of compensation for services provided is not relevant to the EA, and has no bearing on the finding of no significant impact.

The final comment from the Planning Board stated their belief that the information in the EA does not support a finding of no significant impact, and they stated that the Planning Board would require an EIS in accordance with the Exeter Land Development and Subdivision Regulations. The DOL does not believe that any of the comments submitted by the Town of Exeter Planning Board justify the need for an EIS. The DOL has committed to meet all applicable environmental guidelines and regulations during construction and operation, and the EA identifies no significant impacts which will result from the construction and operation of a Job Corps center at the proposed site. The need for an EIS is typically based on the evaluation criteria contained in the DOL NEPA Compliance Procedures (29 CFR part 11) and the Council on Environmental Quality NEPA Regulations (40 CFR part 1500 et seq.), not based upon local ordinances. Although the DOL is rejecting the Planning Board's request for an EIS, the DOL will continue to consult with the Town of Exeter, the RIDEM, and other interested parties throughout the design and construction of the proposed Job Corps center.

Comments From the Environmental Protection Agency, Region 1, Rhode Island Program

The Environmental Protection Agency, Region 1, Rhode Island Program challenged the FONSI based on five deficiencies or errors contained in the EA. The first deficiency cited by the EPA was that the EA does not include “clear and accurate descriptions of natural resources down gradient and in proximity to” the proposed Job Corps center. The DOL does not agree with the EPA's assessment. The EA identified no jurisdictional wetlands on or immediately adjacent to the proposed Job Corps property. The EA did identify protected wetlands to the southeast, northwest, and west of the subject property. Since the proposed project will not include any point source discharges to surface water, and buildings and other surface improvements will be designed to minimize storm water run-off, the DOL believes that there will be no significant impacts to these down-gradient resources. As such, a more detailed description of the down gradient wetlands is not necessary.

The EPA's second comment focused on the discussion of endangered or threatened plant and animal species included in the EA. The EPA stated that the Ladd Center is “bordered by some of the most pristine cold water riverine habitat in * * * Rhode Island. The Nature Conservancy and Audubon have acquired hundreds of acres of critical habitat bordering * * * the Ladd property * * *” The EPA goes on to state that the EA has incorrectly reported that there are no protected species in these habitats, suggesting that the wetlands surrounding the Ladd Center support habitat for three protected species: two odonates (dragonfly species) and one fresh water mussel. The DOL disagrees with the EPA's criticism of the EA in this regard, and believes that the EPA's comments are misleading. The description of the wetlands surrounding the Ladd Center suggests that these areas are federally designated critical habitat areas; however, there are no critical habitat areas listed by the U.S. Fish and Wildlife Service within the State of Rhode Island. Also, contrary to the EPA's assertion, the EA correctly states that there are no known threatened or endangered species on or in close proximity to the subject property; the species identified by the EPA are not listed as threatened or endangered species by either the Rhode Island Natural Heritage Program or the U.S. Fish and Wildlife Service, but are listed by the State of Rhode Island as “species of concern”. This designation is defined by the Natural Heritage Program as “native species not considered to be State Endangered or State Threatened at the present time, but are listed due to various factors of rarity and/or vulnerability.” Although the Natural Heritage Program did not identify any known populations of these species surrounding the Ladd Center during preparation of the EA, the DOL recognizes that the surrounding wetland areas provide habitat that can support these and other species of concern. The DOL has therefore proposed construction of the Job Corps center so as to prevent any surface water discharges to the wetlands.

The EPA's third comment stated that the EA should “have a more factual groundwater quality discussion and surface water quality discussion.” The DOL disagrees that a more detailed discussion of ground and surface water impacts is needed. As stated in the EA and above, the project will be designed to prevent surface water discharges and storm water run-off from the site, so no significant impacts to surface waters are anticipated. With respect to groundwater impacts, the DOL has consulted with the RIDEM regarding the selection of an ISDS with associated pre-treatment for the proposed Job Corps center, and the RIDEM does not anticipate any significant impacts on the Queen's River Aquifer from the proposed project. As referenced in the EA, the Job Corps facility will be designed, constructed, and operated in compliance with all applicable wastewater and storm water regulations.

The EPA also stated that the EA should include a “short factual discussion on the volume of water to be withdrawn from the aquifer * * *” The EA reports that drinking water will be drawn from the existing well system at the Ladd Center, and that the current well yield is more than adequate for the proposed usage. Although the DOL does not feel that more detailed analysis is required for the EA, a brief review of the proposed center usage clearly demonstrates that the proposed Job Corps center will not have any significant impacts to the Queens River Aquifer. With an estimated center population of 245 equivalent persons and a consumption rate of 80 gallons per person per day, the estimated withdrawal rate for the Job Corps center is 19,600 gallons per day (gpd). The USGS estimated groundwater withdrawal rate for the Pawcatuck Watershed was 10.54 million gpd in 1990 (the Queens River is a sub-watershed within the Pawcatuck watershed). The proposed Job Corps center will increase groundwater withdrawal rates within the Pawcatuck watershed by less than 0.2%. Since the use of an on-site ISDS will result in an estimated 85% water return rate, the net withdrawal from the aquifer will be even lower. The DOL believes that the information presented in the EA is accurate, and supports the finding of no significant impact.

The final comment from the EPA states that the EA “does not include an assessment of potential cumulative effects from the training center [Job Corps] and from other future development at Ladd.” The EDC is currently preparing a proposal for development of a portion of the remaining Ladd Center property, but no specific development plans have been finalized. The DOL is not involved in the EDC's overall development plan. Although NEPA requires the DOL to consider the cumulative impact on the environment from the proposed federal action, it does not require the DOL to evaluate the impacts from other proposed development projects. The EA has demonstrated that the proposed Job Corps center will not result in a significant impact on the environment, regardless of the future use of the remaining property. If future development of the Ladd Center presents a significant impact on the environment, it will be due to the specific proposed usage of the property, not to any contributions from the proposed Job Corps center.

Conclusions

The DOL appreciates all of the comments submitted by interested parties on the EA for the proposed Job Corps center in Exeter, Rhode Island. An addendum to the EA has been published to correct factual errors in the EA identified by commenting agencies, and copies of the addendum are available from the above address. After reviewing all comments submitted during the review, the DOL believes that the EA satisfactorily addresses the potential impacts from the proposed project, and that the EA supports a finding of no significant impact. This notice serves as the DOL's final notice of their intent to establish a Job Corps center at the former Ladd Center in Exeter, Rhode Island, and that this proposed project will have no significant impacts on the environment.

Dated at Washington, DC, this 2nd day of March, 2000.
Mary Silva,
Director of Job Corps.

[FR Doc. 00-5844 Filed 3-9-00; 8:45 am]

BILLING CODE 4510-30-P